ENVIRONMENTAL PROTECTION AGENCY

[EPA-HQ-OAR-2006-0407; FRL 9526-6]

Information Collection Request Submitted to OMB for Review and Approval; Comment Request; EPA's ENERGY STAR Program in the Commercial and Industrial Sectors (Renewal)

AGENCY: Environmental Protection Agency (EPA).

ACTION: Notice.

SUMMARY: The Environmental Protection Agency has submitted an information collection request (ICR), “EPA's ENERGY STAR Program in the Commercial and Industrial Sectors” (EPA ICR No. 1772.06, OMB Control No. 2060-0347) to the Office of Management and Budget (OMB) for review and approval in accordance with the Paperwork Reduction Act (44 U.S.C. 3501 et seq.). This is a proposed extension of the ICR, which is currently approved through January 31, 2013. Public comments were previously requested via the Federal Register (77 FR 46089) on August 2, 2012 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 28, 2013.

ADDRESSES: Submit your comments, referencing Docket ID Number EPA-HQ-OAR-2006-0407, to (1) EPA online using www.regulations.gov (our preferred method), by email to a-and-r-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Alexandra Sullivan, Climate Protection Partnerships Division, Mail Code: 6202J, Environmental Protection Agency, 1200 Pennsylvania Ave. NW., Washington, DC 20460; telephone number: 202-343-9040; fax number: 202-343-2204; email address: sullivan.alexandra@epa.gov.

SUPPLEMENTARY INFORMATION: Supporting documents which explain in detail the information that EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: EPA created ENERGY STAR as a voluntary program to help businesses and individuals protect the environment through superior energy efficiency. The program focuses on reducing utility-generated emissions by reducing the demand for energy. In 1991, EPA launched the Green Lights Program to encourage corporations, State and local governments, colleges and universities, and other organizations to adopt energy-efficient lighting as a profitable means of preventing pollution and improving lighting quality. Since then, EPA has rolled Green Lights into ENERGY STAR and expanded ENERGY STAR to encompass organization-wide energy performance improvement, such as building technology upgrades, product purchasing initiatives, and employee training. At the same time, EPA has streamlined the reporting requirements of ENERGY STAR and focused on providing incentives for improvements (e.g., ENERGY STAR Awards Program). EPA also makes tools and other resources available on the Web to help the public overcome the barriers to evaluating their energy performance and investing in profitable improvements.

To join ENERGY STAR, organizations are asked to complete a Partnership Letter or Agreement that establishes their commitment to energy efficiency. Partners agree to undertake efforts such as measuring, tracking, and benchmarking their organization's energy performance by using tools such as those offered by ENERGY STAR; developing and implementing a plan to improve energy performance in their facilities and operations by adopting a strategy provided by ENERGY STAR; and educating staff and the public about their Partnership with ENERGY STAR, and highlighting achievements with the ENERGY STAR, where available.

Partners also may be asked to periodically submit information to EPA as needed to assist in program implementation.

Partnership in ENERGY STAR is voluntary and can be terminated by Partners or EPA at any time. EPA does not expect organizations to join the program unless they expect participation to be cost-effective and otherwise beneficial for them.

In addition, Partners and any other interested party can seek recognition and help EPA promote energy-efficient technologies by evaluating the efficiency of their buildings using EPA's on-line tools (e.g., Portfolio Manager) and applying for recognition. EPA does not expect to deem any information collected under ENERGY STAR to be Confidential Business Information (CBI).

Form Numbers:

• Attachment to Partnership Letter for C&I Partners (5900-19)

• Partnership Agreement for EEPs (5900-33)

• ENERGY STAR Building Certification Application (5900-197)

• ENERGY STAR Leaders—Eligible Facilities List (5900-20)

• ENERGY STAR Leaders—Facility Summary Report (5900-20)

• ENERGY STAR Leaders—Ineligible Facilities List (5900-20)

• ENERGY STAR Leaders—Leaders Story (5900-20)

• Service and Product Provider (SPP) Partnership Application Data Form (5900-195)

• Small Business Network (5900-21)

• Statement of Energy Design Intent (5900-22)

• Statement of Energy Improvement (5900-198)

• Statement of Energy Performance—Plants (5900-89)

• Challenge for Industry Registration Form (5900-263)

• Challenge for Industry Online Recognition Application (5900-262)

• EPI Application Letter (5900-264)

• EPI Award Specification Sheet (5900-265)

Respondents/affected entities: Entities potentially affected by this action are participants in EPA's ENERGY STAR Program in the Commercial and Industrial Sectors.

Respondent's obligation to respond: Voluntary.

Estimated number of respondents: 15,000 (total).

Frequency of response: One-time, annually, or on occasion.

Total estimated burden: 194,509 hours (per year). Burden is defined at 5 CFR 1320.03(b).

Total estimated cost: $24,408,276 (per year), including $10,318,180 in annualized capital or operation & maintenance costs and $14,090,096 in annualized labor costs.

Changes in the Estimates: There is an increase of 69,486 hours in the total estimated respondent burden compared with the ICR currently approved by OMB. This 69,486-hour increase includes an 18-hour decrease due to program changes and a 69,504-hour increase due to adjustments resulting from program growth. This 69,504-hour increase due to adjustments resulted primarily from the fact that EPA has significantly increased its estimate of the number of respondents using the on-line tool Portfolio Manager and applying for ENERGY STAR Certification. There are several reasons for this increase. A primary reason is that State and local governments are increasingly leveraging ENERGY STAR as a way for the public to respond to rising energy costs and global warming. In addition, associations, utilities, and third-party providers are voluntarily communicating ENERGY STAR messages and promoting the use of ENERGY STAR tools and strategies in an effort to help companies reduce their energy consumption and find more environmentally friendly ways to conduct business. Finally, the public has demonstrated an increasing desire to earn recognition under the ENERGY STAR Program.

John Moses,
Director, Collection Strategies Division.

[FR Doc. 2013-01798 Filed 1-28-13; 8:45 am]

BILLING CODE 6560-50-P